DEPARTMENT OF AGRICULTURE

Rural Business Cooperative Service

Rural Housing Service

Rural Utilities Service

[Docket No. RBS-20-BUSINESS-0033]

Implementation of Certain Provisions of Consolidated Appropriations Act, 2020 Specific to Persistent Poverty Counties

AGENCY: Rural Business-Cooperative Service, Rural Housing Service and Rural Utilities Service, USDA.

ACTION: Notice.

SUMMARY: This notice announces implementation of certain provisions published in the Further Consolidated Appropriations Act, 2020 (Pub. L. 116-94) related to persistent poverty counties served by Rural Business-Cooperative Service (RBSC), Rural Housing Service (RHS) and the Rural Utilities Service (RUS) agencies of the Rural Development mission area of the United States Department of Agriculture, USDA, sometimes collectively hereinafter referred to as “Agency” or “the Agency.”

DATES: The provisions of this notice are applicable August 21, 2020.

FOR FURTHER INFORMATION CONTACT: For information specific to this notice contact Michele Brooks, Director, Regulations Management, Rural Development Innovation Center—Regulations Management, USDA, 1400 Independence Avenue SW, STOP 1522, Room 4266, South Building, Washington, DC 20250-1522. Telephone: (202) 690-1078. Email michele.brooks@wdc.usda.gov. For information regarding implementation contact your respective Rural Development State Office listed here: http://www.rd.usda.gov/browse-state.

SUPPLEMENTARY INFORMATION:

Background

Rural Development improves the quality of life in rural America by offering loans, grants and loan guarantees to help create jobs and support economic development and essential services such as housing; health care; first responder services and equipment; and water, electric and communications infrastructure. The Agencies programs promote economic development by supporting loans to businesses through banks, credit unions and community-managed lending pools. Many of Rural Development's programs offer priority funding for loans and grants located in persistent poverty counties. The term “persistent poverty counties” means any county that has had 20 percent or more of its population living in poverty over the past 30 years, as measured by the 1990 and 2000 decennial census and 2007-2011 American Community Survey 5-year average, or any territory or possession of the United States.

The Further Consolidated Appropriations Act, 2020 (Pub. L. 116-94) enacted on December 20, 2019, contained provisions affecting persistent poverty counties and the allocation of funds for persistent poverty counties.

This notice announces implementation of the following provisions:

Allocation of Funds

The Further Consolidated Appropriations Act, 2020 (Pub. L. 116-94) provides that to the maximum extent feasible, at least 10 percent of the funds allocated to the listed programs shall be allocated for assistance to persistent poverty counties.

Population Limits

Notwithstanding any other provision in the listed programs regarding population limits, section 740 of the Further Consolidated Appropriations Act, 2020 (Pub. L. 116-94) provides that for any county seat in a persistent poverty county that has a population that does not exceed the program's authorized population limit by more than 10 percent will be considered eligible for that program.

The listed programs are the Rural Housing Insurance Fund Program Account from which the Agency has set aside Fiscal Year 2020 appropriated funds for the following programs: Direct Single Family Housing Loans (sec 502); Very Low-Income Housing Repair Loans (sec. 504); Rural Rental Housing Direct Loan Program (sec. 515); Housing Site Development Loans (sec. 524); and, Self-Help Housing Land Development Loans (sec. 523); Mutual and Self-Help Housing Grants; Rural Housing Assistance Grants from which the Agency has set aside Fiscal Year 2020 appropriated funds for the Very Low-Income Housing Repair (sec. 504) and Rural Housing Preservation (sec. 533); Rural Community Facilities Program Account from which the Agency has set aside Fiscal Year 2020 appropriated funds for Community Facilities Grants; Rural Business Program Account from which the Agency has set aside Fiscal Year 2020 appropriated funds for the following programs: Rural Business Development Grants—Business Enterprise Grants; Federally Recognized Native American Tribes, Rural Business Development Grants—Business Enterprise Grants; Grants to Delta Regional Authority; and, Grants to Appalachian Regional Commissions; Rural Economic Development Loans Program Account from which the Agency has set aside Fiscal Year 2020 appropriated funds for Rural Economic Development Loans; Rural Cooperative Development Grants from which the Agency has set aside Fiscal Year 2020 appropriated funds for Rural Cooperative Development Grants, Grants to Assist Socially Disadvantaged, and Value-Added Agricultural Product Market Development Grants; WWD Program Account from which the Agency has set aside Fiscal Year 2020 appropriated funds for Direct Water and Waste Disposal Loans, Water and Waste Disposal Grants, and Federally Recognized Native American Tribes Water and Waste Disposal Grants (sec. 306C(a)(1)); Rural Electrification and Telecommunications Loans Program Account from which the Agency has set aside Fiscal Year 2020 appropriated funds for Telecommunications Program Direct, Treasury Rate loans; and, Distance Learning and Telemedicine and Broadband Program from which the Agency has set aside Fiscal Year 2020 appropriated funds for Delta Health Care Services Grants and Broadband Telecommunications Grants.

The Agency, if applicable, will, with the publication of program funding announcements, provide guidance on qualifying for and, scoring criteria for persistent poverty areas. If no program funding announcement will be published, then the Agency will provide such guidance on the program's website.

Non-Discrimination Statement

In accordance with Federal civil rights law and U.S. Department of Agriculture (USDA) civil rights regulations and policies, the USDA, its Agencies, offices, employees, and institutions participating in or administering USDA programs are prohibited from discriminating based on race, color, national origin, religion, sex, gender identity (including gender expression), sexual orientation, disability, age, marital status, familial/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW, Washington, DC 20250-9410;

(2) Fax: (202) 690-7442; or

(3) Email: program.intake@usda.gov.

USDA is an equal opportunity provider, employer, and lender.

Bette Brand,
Deputy Under Secretary, Rural Development.

[FR Doc. 2020-18395 Filed 8-20-20; 8:45 am]

BILLING CODE 3410-XY-P